DEPARTMENT OF DEFENSE

Office of the Secretary

Defense Business Board; Notice of Federal Advisory Committee Meeting; Revision

AGENCY: DoD.

ACTION: Meeting notice; revision.

SUMMARY: On October 3, 2014 (79 FR 59758-59759), the Department of Defense published a notice announcing an October 23, 2014 meeting of the Defense Business Board. The Department of Defense announces that the meeting time has changed. All other information in the notice of October 3, 2014 remains the same.

DATES: The public meeting of the Defense Business Board (hereafter referred to as “the Board”) will be held on Thursday, October 23, 2014. The meeting will now begin at 11:00 a.m. and end at 11:45 a.m. (Escort required; see guidance in the SUPPLEMENTARY INFORMATION section, “Public's Accessibility to the Meeting.”)

FOR FURTHER INFORMATION CONTACT: Committee's Designated Federal Officer: The Board's Designated Federal Officer is Phyllis Ferguson, Defense Business Board, 1155 Defense Pentagon, Room 5B1088A, Washington, DC 20301-1155, phyllis.l.ferguson2.civ@mail.mil, 703-695-7563. For meeting information please contact Ms. Debora Duffy, Defense Business Board, 1155 Defense Pentagon, Room 5B1088A, Washington, DC 20301-1155, debora.k.duffy.civ@mail.mil, (703) 697-2168.

SUPPLEMENTARY INFORMATION: Due to scheduling conflicts the Department of Defense must change the meeting times previously announced for the Defense Business Board's scheduled meeting on October 23, 2014. As a result, the Department of Defense is unable to provide appropriate notification as required by 41 CFR § 102-3.150(a). Therefore, the Advisory Committee Management Officer for the Department of Defense, pursuant to 41 CFR § 102-3.150(b), waives the 15-calendar day notification requirement. Under the provisions of the Federal Advisory Committee Act of 1972 (5 U.S.C., Appendix, as amended), the Government in the Sunshine Act of 1976 (5 U.S.C. 552b, as amended), and 41 CFR 102-3.150, the Department of Defense announces that the meeting time has changed.

Meeting Agenda

11:00 a.m.-11:45 a.m. Task Group Updates on

• “Guiding Principles to Optimize DoD's Research and Development Investments”

• “Transformational Change for the Department of Defense Business Systems”

Public's Accessibility to the Meeting: Pursuant to 5 U.S.C. 552b and 41 CFR 102-3.140 through 102-3.165, and the availability of space, this meeting is open to the public. Seating is limited and is on a first-come basis. All members of the public who wish to attend the public meeting must contact Ms. Debora Duffy at the number listed in the FOR FURTHER INFORMATION CONTACT section no later than 12:00 p.m. on Tuesday, October 21 to register and make arrangements for a Pentagon escort, if necessary. Public attendees requiring escort should arrive at the Pentagon Metro Entrance with sufficient time to complete security screening no later than 10:30 a.m. on October 23, 2014. To complete security screening, please come prepared to present two forms of identification and one must be a pictured identification card.

Special Accommodations: Individuals requiring special accommodations to access the public meeting should contact Ms. Duffy at least five (5) business days prior to the meeting so that appropriate arrangements can be made.

Dated: October 15, 2014.
Aaron Siegel,
Alternate OSD Federal Register Liaison Officer, Department of Defense.

[FR Doc. 2014-24902 Filed 10-17-14; 8:45 am]

BILLING CODE 5001-06-P